DEPARTMENT OF EDUCATION

Notice Inviting Postsecondary Educational Institutions To Participate in Experiments Under the Experimental Sites Initiative; Federal Student Financial Assistance Programs Under Title IV of the Higher Education Act of 1965, as Amended

AGENCY: Office of Postsecondary Education, Department of Education.

ACTION: Notice.

SUMMARY: The Secretary invites postsecondary institutions (institutions) that participate in the student financial assistance programs authorized under title IV of the Higher Education Act of 1965, as amended (HEA), to apply to participate in a new institution-based experiment under the Experimental Sites Initiative (ESI). Under the ESI, the Secretary has authority to grant waivers from certain title IV, HEA statutory or regulatory requirements to allow a limited number of institutions to participate in experiments to test alternative methods for administering the title IV, HEA programs. ESI experiments are designed to facilitate efforts by institutions to explore particular innovative practices aimed at improving student outcomes, the delivery of services, or both.

Under this experiment, participating institutions will be provided a waiver of the specific statutory and regulatory provisions that prevent students who are enrolled in secondary school from receiving Federal Pell Grants for enrollment in title IV-eligible postsecondary programs. Details of the experiment are provided in the Background section of this notice.

DATES: Letters of interest to participate in the experiment described in this notice must be received by the Department no later than February 1, 2016 in order for the institution to ensure that it is considered for participation in the experiment. Institutions submitting letters that are received after February 1, 2016 may still be considered for participation, at the discretion of the Secretary.

ADDRESSES: Letters of interest must be submitted by electronic mail to the following email address: experimentalsites@ed.gov. For formats and other required information, see “Instructions for Submitting Letters of Interest” under SUPPLEMENTARY INFORMATION.

FOR FURTHER INFORMATION CONTACT: Warren Farr, U.S. Department of Education, Federal Student Aid, 830 First Street NE., Washington, DC 20002. Telephone: (202) 377-4380 or by email at: Warren.Farr@ed.gov.

If you use a telecommunications device for the deaf or a text telephone, call the Federal Relay Service, toll free, at 1-800-877-8339.

SUPPLEMENTARY INFORMATION:

Instructions for Submitting Letters of Interest

Interested institutions must submit a letter of interest. Letters of interest must be submitted as a PDF attachment to an email message sent to the email address provided in the ADDRESSES section of this notice. The subject line of the email should read “ESI 2015-Dual Enrollment.” The text of the email should include the name and address of the institution. The letter of interest should be on institutional letterhead and be signed by the institution's financial aid administrator.

The letter of interest must include the institution's official name and Department of Education Office of Postsecondary Education Identification (OPEID) number, as well as a mailing address, email address, FAX number, and telephone number of a contact person at the institution.

We are interested in information such as (1) a brief description of the proposed dual enrollment arrangement(s) between the institution and one or more public secondary schools or local educational agencies (LEAs) that the institution is considering for participation in the experiment; (2) how the arrangement would meet the requirements described in this notice; (3) if the institution has identified one or more public secondary schools that it will partner with under this experiment, identifying information for each public secondary school, and the school's LEA ; and (4) an estimate of the number of students who will be served under each proposed arrangement with one or a group of public secondary schools or LEAs.

Background

Expanding opportunities for students to enroll and succeed in postsecondary education is vital to building a strong economy and middle class. However, there are numerous barriers preventing some students, particularly those from low-income families, from accessing and completing postsecondary education, such as cost and the lack of access to rigorous coursework and support services.

Dual enrollment, in which students concurrently enroll in postsecondary coursework while in secondary school, has emerged as a promising approach to expand access to postsecondary education. A growing body of research suggests that participation in dual enrollment can lead to improved academic outcomes, especially for students from low-income families and first-generation college students, or those who are otherwise underrepresented in postsecondary education.¹ Research suggests that participation in dual enrollment can lead to increased postsecondary education enrollment following secondary school, higher rates of persistence in postsecondary education, greater credit accumulation, higher grade point averages (GPAs), and increased rates of credential attainment.2 3 In addition, studies have found that taking postsecondary-level courses while in secondary school is associated with increased levels of academic preparedness for postsecondary-level coursework and higher rates of secondary school graduation.4 5

¹ Karp, M, and Hughes, K. (2008). Study: Dual Enrollment Can Benefit a Broad Range of Students. Techniques: Connecting Education and Careers (J1) 83.7, 14-17.

² An, B. P. (2012). “The Impact of Dual Enrollment on College Degree Attainment: Do Low-SES Students Benefit? Educational Evaluation and Policy Analysis, 35, 57-75.

³ Karp, M. M., Calcagno, J. C., Hughes, K. L., Jeong, D. W., & Bailey, T. R. (2007). The Achievement of Participants in Dual Enrollment: An Analysis of Student Outcomes in Two States. Saint Paul, MN: University of Minnesota, National Research Center for Career and Technical Education.

⁴ Speroni, C. (2011). High School Dual Enrollment Programs: Are We Fast-Tracking Students Too Fast? NCPR Working Paper. National Center for Postsecondary Research.

⁵ American Institutes for Research & SRI. (2013). Early College, Early Success: Early College High School Initiative Impact Study. Washington, DC: American Institutes for Research.

Dual enrollment can also facilitate stronger connections between the secondary and postsecondary education sectors by leveraging existing tools that enable closer alignment between secondary schools and postsecondary institutions. For example, some postsecondary institutions have begun using college- and career-ready standards and assessments at the secondary school level as an indicator of academic preparedness for college-level coursework. Despite evidence that dual enrollment programs show promising results for increasing students' college participation and outcomes, cost can be a barrier: at nearly half of institutions with dual enrollment programs, most students pay out of pocket for tuition.⁶ States, schools, and organizations can all play a role in investing in dual enrollment programs and ensuring that costs do not pose a barrier to underserved populations.

⁶ Marken, Stephanie et al. (2013). Dual Enrollment Programs and Courses for High School Students at Postsecondary Institutions: 2010-11. U.S. Department of Education, National Center for Education Statistics. http://nces.ed.gov/pubs2013/2013002.pdf.

The objectives of this experiment are to learn about how Federal Pell Grant funding can expand opportunities for students from low-income backgrounds to participate in dual enrollment, explore how Pell Grant funding can expand access to rigorous coursework for high school students, and provide the Department with information regarding the number and characteristics of Pell-eligible students who would likely participate in dual enrollment programs.

For this experiment, the Department is particularly interested in dual enrollment arrangements that are aligned with postsecondary degrees and credentials in high-demand fields, including Science, Technology, Engineering, Mathematics, and Computer Science, and those aligned with career pathways and other career preparation programs. These types of dual enrollment arrangements have been shown to produce strong positive outcomes for students.7 8

⁷ Hughes, K., et al. (2012). Broadening the Benefits of Dual Enrollment: Reaching Underachieving and Underrepresented Students with Career-Focused Programs. Insight. James Irvine Foundation.

⁸ Rodríguez, O., Hughes, K. L., & Belfield, C. (2012). Bridging College and Careers: Using Dual Enrollment to Enhance Career and Technical Education Pathways. Available at: http://ccrc.tc.columbia.edu/publications/bridging-college-careers-dual-enrollment.html.

Reporting and Evaluation

To evaluate the experiment, participating institutions will be required to collect, maintain, and report information about students receiving Federal Pell Grants under the experiment. This information may include: The number and characteristics of students enrolled in dual enrollment, the number of postsecondary credits the students have attempted and earned, the amount of Federal Pell Grant funding provided to each student, and indicators of academic progression and completion. In addition, participating institutions may be required to report information about the number and characteristics of low-income students who participated in dual enrollment prior to the experiment.

Participating institutions will be required to participate in annual surveys that collect information about the institution's dual enrollment arrangement(s) and any unforeseen challenges. This information may include the characteristics of the institution's dual enrollment arrangement (e.g., tuition and fees, caps on credits earned, support services provided, instructional delivery methods, and faculty characteristics). The Department will finalize the specific evaluation and reporting requirements prior to the start of the experiment.

The Department's evaluation will also include information reported by postsecondary institutions through the Department's systems regarding the enrollment, completion, and withdrawal of students who receive Pell Grant funds under the experiment.

Application and Selection

From the institutions that submit letters of interest, the Secretary will select a limited number of institutions to participate in this experiment. When selecting institutions for participation in this experiment, the Secretary will consider evidence that demonstrates a strong record on student outcomes and in the administration of the title IV, HEA programs. The Secretary will also consider all information available about an institution including, but not limited to, information provided in an institution's letters of interest, evidence of programmatic compliance, completion rates, repayment rates, cohort default rates, financial responsibility ratios, evidence of credit transferability, and with regard to for-profit institutions, “90/10” ratios. The Department encourages applications from institutions of various types and controls, geographic locations, enrollment sizes, and title IV, HEA program participation levels, among other characteristics.

Participating institutions will have their Program Participation Agreement with the Secretary amended to reflect the specific statutory and regulatory provisions that the Secretary has waived for the experiment. Administration of the experiment is the responsibility of the entire institution. The institution will be required to acknowledge its commitment to properly administer the experiment.

The Experiment

Description

Section 484(a)(1) of the HEA and 34 CFR 668.32(b) specifically prohibit a student from receiving title IV assistance, including Federal Pell Grants, if the student is, in addition to being enrolled in an eligible postsecondary educational program, also enrolled in secondary school. Under this experiment, the Secretary will waive the statutory and regulatory provisions that prevent a student who is enrolled in secondary school from receiving Federal Pell Grants for enrollment in a postsecondary educational program. The Secretary will also waive, for the students included in the dual enrollment experiment, the requirement that a student must have a high school diploma or its recognized equivalent in order to receive title IV aid.

The Secretary does not waive any dual enrollment participation requirements that participating institutions, public secondary schools, State Educational Agencies, or LEAs may already have.

Consistent with the waiver authority granted to the Secretary under section 487A(b) of the HEA, this experiment will examine the extent to which waiving the restrictions on providing Federal Pell Grants to secondary school students increases low-income student participation in dual enrollment. Under the experiment, the student and the postsecondary program in which the student enrolls must meet all other title IV eligibility requirements in order for the student to receive a Federal Pell Grant.

Institutional Eligibility

To participate in the experiment, the institution must have an arrangement with one or more LEAs or public secondary schools, as defined by the State in which the public secondary school is located, to permit public secondary school students to enroll in a title IV-eligible postsecondary program.

Under this experiment, the arrangement between the postsecondary educational institution and an LEA or public secondary school must:

• Require dually enrolled students to enroll in a title IV eligible postsecondary program as regular students, as defined by 34 CFR 600.2.

• Provide that students will receive Federal Pell Grants only for coursework that applies towards completion of a postsecondary credential at the participating institution. Such coursework may, but is not required to, apply towards a secondary school diploma. Participating institutions should ensure that dual enrollment arrangements do not impede participating students' academic progress and persistence in secondary school.

• Offer students the opportunity to earn the equivalent of at least 12 postsecondary credit hours while also enrolled in a public secondary school.

• Ensure that students are adequately prepared academically for postsecondary-level coursework. This may include ensuring that students meet any relevant requirements that may apply for enrollment, such as grade point average, placement tests, and course prerequisite requirements.

• Prohibit the use of Federal Pell Grant funds for remedial coursework taken by students who are enrolled in a public secondary school.

• Provide appropriate student support services, such as academic tutoring, high school to college transition support, guidance counseling, or other comparable services designed to increase student preparation for and success in postsecondary education. These services may be provided by the public secondary school, the institution, the LEA, or by another entity.

• Provide assistance completing the Free Application for Federal Student Aid (FAFSA). This assistance may be provided by the public secondary school, the institution, the LEA, or by another entity.

To the extent that the institution has information about potential restrictions on the transferability of the credits that secondary students may receive under the institution's dual enrollment arrangement, the institution must disclose this information to students and their families prior to the student's participation in the dual enrollment experiment.

Participating institutions must ensure that after all Federal Pell Grants, State, local, institutional aid, or other resources have been applied to student charges, students are not responsible for any remaining institutional charges as a result of enrolling in the postsecondary program as part of the institution's dual enrollment arrangement under the experiment.

Use of Funds

Federal Pell Grants made available to students to enroll in participating institutions through this experiment must not supplant public and institutional sources of funding for an institution's dual enrollment arrangement(s). To verify and monitor this requirement, participating institutions will be required to annually submit to the Department information about the total cost of operating the dual enrollment arrangement and the sources of funding for the arrangement. The Secretary may remove an institution from the experiment if the Secretary determines that Federal Pell Grant funds have been used to supplant existing funding sources.

Waivers

Institutions selected for this experiment will be exempt from the following statutory and regulatory provisions:

• Section 484(a)(1) of the HEA and 34 CFR 668.32(b), to the extent that the statute and regulations prohibit a student who is enrolled in a public secondary school from receiving funds under the Federal Pell Grant program;

• Section 484(d) of the HEA and 34 CFR 668.32(e), to the extent that the statute and regulations require that a student have a high school diploma, or its recognized equivalent, to be eligible for Federal Pell Grant funds.

All other provisions and regulations of the title IV, HEA programs will apply to institutions participating in this experiment.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Delegation of Authority: The Secretary of Education has delegated authority to Jamienne S. Studley, Deputy Under Secretary, to perform the functions and duties of the Assistant Secretary for Postsecondary Education.

Program Authority: 20 U.S.C. 1094a(b).

Dated: October 29, 2015.
Jamienne S. Studley,
Deputy Under Secretary.

[FR Doc. 2015-28010 Filed 11-2-15; 8:45 am]

BILLING CODE 4000-01-P